DEPARTMENT OF HEALTH AND HUMAN SERVICES

Substance Abuse and Mental Health Services Administration

Agency Information Collection Activities: Submission for OMB Review; Comment Request

Periodically, the Substance Abuse and Mental Health Services Administration (SAMHSA) will publish a summary of information collection requests under OMB review, in compliance with the Paperwork Reduction Act (44 U.S.C. Chapter 35). To request a copy of these documents, call the SAMHSA Reports Clearance Officer on (240) 276-1243.

Project: An Exploration of Peer Recovery Support Services Across State Behavioral Health Systems—NEW

The Substance Abuse and Mental Health Services Administration (SAMHSA), Center for Behavioral Health Statistics and Quality (CBHSQ) is proposing a pilot study to obtain an overview of peer recovery services across state behavioral health systems. In an effort to support behavioral health systems' adoption and management of recovery oriented services, SAMHSA created the Bringing Recovery Supports to Scale Technical Assistance Center Strategy (BRSS TACS). BRSS TACS is a mechanism for implementing SAMHSA's Recovery Support Strategic Initiative. A goal of this initiative is to understand the finance and quality assurance issues that impact the development of peer recovery personnel in the workforce and the services they deliver. A grasp of these complex issues can enable BRSS TACS to advance its work of supporting states by creating policy guidance on best practices for effectively deploying peer recovery support services in integrated healthcare delivery systems as mandated by the Affordable Care Act.

The proposed pilot study will utilize a semi-structured interview questionnaire with state and organizational representatives from mental health and substance abuse agencies. Questions of interest include (1) an examination of how reimbursement of peer support services is linked to peer roles, delivery settings, and funding streams; (2) quality assurance issues such as credentialing and supervision of peer support personnel; (3) procedures for monitoring, evaluating, and sustaining peer support services; and (4) challenges of delivering peer recovery services in the era of Affordable Care Act.

The representatives (n=40) from state and organizational agencies of mental health and substance abuse will represent a state from the 10 public health regions. States are identified by SAMHSA subject matter experts and stakeholders who are familiar with the structure and function of peer recovery support services. The sampling recommended by SAMHSA experts and stakeholders is a selection of states that have a strong history of providing peer led services and have an active peer-based organization.

The total estimated respondent burden is 20 hours for the period from April 2014 through September 2014. Table 1 below indicates the annualized respondent burden estimate.

Table 1—Annualized Respondent Burden Hours, 2014
Form name | Number of respondents | Responses per respondent | Total responses | Hours per response | Total hour burden
Structured Interview Questionnaire | 40 | 1 | 40 | .50 | 20

Written comments and recommendations concerning the proposed information collection should be sent by April 3, 2014 to the SAMHSA Desk Officer at the Office of Information and Regulatory Affairs, Office of Management and Budget (OMB). To ensure timely receipt of comments, and to avoid potential delays in OMB's receipt and processing of mail sent through the U.S. Postal Service, commenters are encouraged to submit their comments to OMB via email to: OIRA_Submission@omb.eop.gov. Although commenters are encouraged to send their comments via email, commenters may also fax their comments to: 202-395-7285. Commenters may also mail them to: Office of Management and Budget, Office of Information and Regulatory Affairs, New Executive Office Building, Room 10102, Washington, DC 20503.

Summer King,
Statistician.

[FR Doc. 2014-04743 Filed 3-3-14; 8:45 am]

BILLING CODE 4162-20-P